CONSUMER PRODUCT SAFETY COMMISSION

16 CFR Part 1500

Exemptions From Classification as a Banned Toy or Other Banned Article for Use by Children; Dive Sticks; Correction

AGENCY: Consumer Product Safety Commission.

ACTION: Final rule; Correction.

SUMMARY: This document corrects a citation error in the regulation that states certain requirements dive sticks must meet in order not to be banned hazardous substances. The Consumer Product Safety Commission is issuing this revision to correct an erroneous paragraph designation to the banning rule.

DATES: This rule is effective on December 17, 2003.

FOR FURTHER INFORMATION CONTACT: Patricia M. Pollitzer, Office of the General Counsel, Consumer Product Safety Commission, Washington, DC 20207; telephone (301) 504-7634; e-mail ppollitzer@cpsc.gov.

Supplementary Information:

The Correction

On March 7, 2001, the Commission issued a final rule banning dive sticks that did not meet specified requirements. 66 FR 13645. That rule amended 16 CFR 1500.86(a) to add dive sticks that meet the specified requirements to the list of articles exempted from classification as a banned toy or other article intended for use by children. A citation in § 1500.86(a)(7) and (8) was incorrect.

As published, the final regulation contains erroneous citations which may be misleading and need to be clarified.

The Administrative Procedure Act

Section 553(b)(3)(B) of the Administrative Procedure Act (“APA”) authorizes an agency to dispense with notice and comment procedures when the agency, for good cause, finds that those procedures are “impracticable, unnecessary, or contrary to the public interest.” This amendment corrects typographical errors and does not make any substantive change. Accordingly, the Commission finds that notice and comment on this technical correction is unnecessary.

The APA also authorizes an agency, “for good cause found and published with the rule,” to dispense with the otherwise applicable requirement that a rule be published in the Federal Register at least 30 days before its effective date. 5 U.S.C. 553(d)(3). The Commission hereby finds that a 30 day delay of the effective date is unnecessary because this technical amendment merely corrects typographical errors.

List of Subjects in 16 CFR Part 1500

Consumer protection, Hazardous substances, Imports, Infants and children, Labeling, Law enforcement, and Toys.

Accordingly, 16 CFR part 1500 is corrected by making the following correcting amendments:

PART 1500—HAZARDOUS SUBSTANCES AND ARTICLES: ADMINISTRATION AND ENFORCEMENT REGULATIONS

1. The authority for part 1500 continues to read as follows:

Authority: 15 U.S.C. 1261-1278.

§ 1500.86 [Amended]

2. In § 1500.86, paragraphs (a)(7) and (a)(8) are amended by removing the reference “§ 1500.18(a)(18)” and adding the reference “§ 1500.18(a)(19)” in its place.

Dated: December 11, 2003.
Todd Stevenson,
Secretary, Consumer Product Safety Commission.

[FR Doc. 03-31127 Filed 12-16-03; 8:45 am]

BILLING CODE 6355-01-P